FEDERAL COMMUNICATIONS COMMISSION

47 CFR Part 73

[MB Docket No. 21-55; RM-11878; DA 21-162; FR ID 17506]

Television Broadcasting Services St. George, Utah

AGENCY: Federal Communications Commission.

ACTION: Proposed rule.

SUMMARY: The Commission has before it a petition for rulemaking (Petition) filed by KUTV Licensee, LLC, (Licensee), licensee of KMYU, channel 9, St. George, Utah (KMYU or Station), requesting the substitution of channel 21 for channel 9 at St. George in the DTV Table of Allotments. Licensee states that the proposed channel change from channel 9 to channel 21 would result a substantial increase in signal receivability for KMYU's core viewers and enable viewers to receive the Station's signal with a significantly smaller antenna. Licensee maintains that KMYU, as a VHF channel station, has had a long history of dealing with severe reception problems exacerbated by the analog to digital conversion. The proposed migration of KMYU from channel 9 to channel 21, Licensee contends, will result in the delivery of enhanced signal levels to a large percentage of the Station's population without any predicted loss of coverage. Further, Licensee maintains that the change will result in an predicted increase of more than 8,000 persons in the Station's overall population. Licensee concludes by saying that the public interest would be best served by promptly granting its Petition with the specifications set forth in therein so that St. George-area viewers may benefit from substantially improved over-the-air broadcast television service as soon as possible.

DATES: Comments must be filed on or before April 28, 2021 and reply comments on or before May 13, 2021.

ADDRESSES: Federal Communications Commission, Office of the Secretary, 45 L Street NE, Washington, DC 20554. In addition to filing comments with the FCC, interested parties should serve counsel for petitioner as follows: Paul A. Cicelski, Esq., Lerman Senter PLLC, 2001 L Street NW, Suite 400, Washington, DC, 20036.

FOR FURTHER INFORMATION CONTACT: Shaun Maher, Media Bureau, at (202) 418-2324; or Shaun.Maher@fcc.gov.

SUPPLEMENTARY INFORMATION: This is a synopsis of the Commission's Notice of Proposed Rulemaking, MB Docket No. 21-53; RM-11878; DA 21-162, adopted February 12, 2021, and released February 12, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(i) amend the Post-Transition Table of DTV Allotments under Utah by revising the entry for St. George to read as follows:

§ 73.622 Digital television table of allotments.

* * * * *

(i) * * *

Community | Channel No.
* * * * *
Utah
* * * * *
St. George | 21
* * * * *

[FR Doc. 2021-06396 Filed 3-26-21; 8:45 am]

BILLING CODE 6712-01-P